DEPARTMENT OF TRANSPORTATION

Federal Aviation Administration

[Docket No. FAA-2025-0708]

Agency Information Collection Activities: Requests for Comments; Clearance of a Renewed Approval of Information Collection: Pilot Certification Unmanned Aircraft Systems

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 23, 2025. The collection involves information required to apply for a Remote Pilot Certificate and/or Rating using FAA form 8710-13. The information to be collected will be used to evaluate a person's qualifications and eligibility for the issuance of a Remote Pilot Certificate and/or Rating.

DATES: Written comments should be submitted by September 11, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Benjamin Walsh by email at: ben.walsh@faa.gov; phone: 703-230-7664 x3275.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0777.

Title: Pilot Certification Unmanned Aircraft Systems.

Form Numbers: 8710-13.

Type of Review: Renewal of an information collection.

Background: The Federal Register Notice with a 60-day comment period soliciting comments on the following collection of information was published on May 23, 2025 (90 FR 22146).

This collection involves information submitted on FAA form 8710-13 (Remote Pilot Certificate and/or Rating Application) by persons applying for a Part 107 remote pilot certificate and/or rating. A Part 107 remote pilot certificate and/or rating is required to act as remote pilot in command of an unmanned aircraft system (UAS) being operated under Part 107. The form requires an applicant to provide information such as their name, address, physical characteristics (height, weight, etc.), existing pilot certificates, and whether the applicant took the knowledge test or training course. The applicant must provide proof of completion of a knowledge test or training course, as applicable, with the application. The information to be collected will be used to identify and evaluate a person's qualifications and eligibility for the issuance of a remote pilot certificate and/or rating. Form 8710-13 can be submitted electronically using the FAA's online Integrated Airman Certification and Rating Application (IACRA), by mail, or in person at certain FAA facilities.

Subpart C of title 14 Code of Federal Regulations part 107 (14 CFR part 107), Small Unmanned Aircraft Systems, provides requirements for applicants to obtain a remote pilot certificate, and establishes procedures for applicants to apply for such certificates. Persons applying for a remote pilot certificate with a small UAS rating under part 107 must submit information using the FAA Form 8710-13, Remote Pilot Certificate and/or Rating Application. For applicants who do not hold a pilot certificate under part 61, the Remote Pilot Certificate and/or Rating application is submitted along with a documentation demonstrating that the applicant has passed an aeronautical knowledge test. For applicants who hold a pilot certificate under part 61 and meet the flight review requirements of § 61.56, the Remote Pilot Certificate and/or Rating application is submitted with evidence of completion of a training course.

Respondents: Persons submitting an application for a Remote Pilot Certificate and/or Rating for Small Unmanned Aircraft Systems, submitted either in paper form or online using the FAA's Integrated Airman Certification and Rating Application (IACRA) website. Approximately 59,000 applications submitted annually.

Frequency: On occasion, once per applicant.

Estimated Average Burden per Response: 15 minutes.

Estimated Total Annual Burden: One response per applicant per year; 14,750 hours total per year for all applicants.

Issued in Washington, DC, on August 7, 2025.
Rachel Carlstrom,
Manager, Emerging Technologies Division, AFS-740.

[FR Doc. 2025-15269 Filed 8-11-25; 8:45 am]

BILLING CODE 4910-13-P